DEPARTMENT OF ENERGY

Federal Energy Regulatory Commission

Combined Notice of Filings #1

Take notice that the Commission received the following exempt wholesale generator filings:

Docket Numbers: EG22-136-000.

Applicants: Maple Flats Solar Energy Center LLC.

Description: Notice of Self-Certification of Exempt Wholesale Generator Status of Maple Flats Solar Energy Center LLC.

Filed Date: 6/7/22.

Accession Number: 20220607-5047.

Comment Date: 5 p.m. ET 6/28/22.

Take notice that the Commission received the following electric rate filings:

Docket Numbers: ER10-1840-005; ER16-634-001.

Applicants: AltaGas Pomona Energy Inc., Blythe Energy, LLC.

Description: Triennial Market Power Analysis for Southwest Region of Blythe Energy Inc., et al.

Filed Date: 6/6/22.

Accession Number: 20220606-5288.

Comment Date: 5 p.m. ET 8/5/22.

Docket Numbers: ER22-1278-001.

Applicants: California Independent System Operator Corporation.

Description: Compliance filing: 2022-06-07 Compliance Filing—RSEE to be effective 6/1/2022.

Filed Date: 6/7/22.

Accession Number: 20220607-5118.

Comment Date: 5 p.m. ET 6/28/22.

Docket Numbers: ER22-1518-000.

Applicants: Laurel Mountain BESS, LLC.

Description: Supplement to March 31, 2022 Laurel Mountain BESS, LLC tariff filing.

Filed Date: 6/6/22.

Accession Number: 20220606-5279.

Comment Date: 5 p.m. ET 6/16/22.

Docket Numbers: ER22-2033-001.

Applicants: PJM Interconnection, L.L.C.

Description: Tariff Amendment: Correction to ISA, Service Agreement No. 5861; Queue Nos. AF2-305/AG1-398 to be effective 5/13/2022.

Filed Date: 6/7/22.

Accession Number: 20220607-5113.

Comment Date: 5 p.m. ET 6/28/22.

Docket Numbers: ER22-2042-000.

Applicants: Jackpot Holdings, LLC.

Description: Baseline eTariff Filing: Jackpot Holdings, LLC—MBR Application to be effective 8/6/2022.

Filed Date: 6/6/22.

Accession Number: 20220606-5216.

Comment Date: 5 p.m. ET 6/27/22.

Docket Numbers: ER22-2043-000.

Applicants: PJM Interconnection, L.L.C.

Description: § 205(d) Rate Filing: Original ISA, Service Agreement No. 6480; Queue No. AC2-154/AD2-060 to be effective 5/9/2022.

Filed Date: 6/6/22.

Accession Number: 20220606-5218.

Comment Date: 5 p.m. ET 6/27/22.

Docket Numbers: ER22-2044-000.

Applicants: Just Energy Limited.

Description: Baseline eTariff Filing: Just Energy Limited Market-Based Rate Application to be effective 7/6/2022.

Filed Date: 6/6/22.

Accession Number: 20220606-5237.

Comment Date: 5 p.m. ET 6/27/22.

Docket Numbers: ER22-2045-000.

Applicants: New York State Electric & Gas Corporation.

Description: § 205(d) Rate Filing: NYSEG-NYPA Attachment C—O&M Annual Update to be effective 9/1/2022.

Filed Date: 6/7/22.

Accession Number: 20220607-5056.

Comment Date: 5 p.m. ET 6/28/22.

Docket Numbers: ER22-2046-000.

Applicants: Sapphire Sky Wind Energy LLC.

Description: Baseline eTariff Filing: Application for Market-Based Rate Authorization to be effective 8/7/2022.

Filed Date: 6/7/22.

Accession Number: 20220607-5060.

Comment Date: 5 p.m. ET 6/28/22.

Docket Numbers: ER22-2047-000.

Applicants: Midcontinent Independent System Operator, Inc., Ameren Illinois Company.

Description: § 205(d) Rate Filing: Midcontinent Independent System Operator, Inc. submits tariff filing per 35.13(a)(2)(iii: 2022-06-07_SA 3299 Att A_Ameren IL-Norris Electric-Russellville Proj. No. 6 to be effective 8/7/2022.

Filed Date: 6/7/22.

Accession Number: 20220607-5073.

Comment Date: 5 p.m. ET 6/28/22.

Docket Numbers: ER22-2048-000.

Applicants: Skipjack Solar Center, LLC.

Description: Baseline eTariff Filing: Reactive Supply and Voltage Control Baseline to be effective 6/8/2022.

Filed Date: 6/7/22.

Accession Number: 20220607-5079.

Comment Date: 5 p.m. ET 6/28/22.

Docket Numbers: ER22-2049-000.

Applicants: Public Service Company of Colorado.

Description: § 205(d) Rate Filing: 2022-06-07 PSC-HLYCRS-Const Agrmt-Rifle-668-0.0.0 to be effective 6/8/2022.

Filed Date: 6/7/22.

Accession Number: 20220607-5117.

Comment Date: 5 p.m. ET 6/28/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 7, 2022.
Debbie-Anne A. Reese,
Deputy Secretary.

[FR Doc. 2022-12671 Filed 6-10-22; 8:45 am]

BILLING CODE 6717-01-P